DEPARTMENT OF JUSTICE

Notice of Lodging of Consent Decree Under Comprehensive Environmental Response, Compensation and Liability Act

Under 28 CFR. 50.7, notice is hereby given that on October 6, 2009, two related Consent Decrees in United States v. Town of Southington, et al, No. 3:09cv1515, were lodged with the United States District Court for the District of Connecticut.

The proposed Consent Decrees resolve claims of the United States, on behalf of the Environmental Protection Agency (“EPA”), under the Comprehensive Environmental Response, Compensation, and Liability Act (“CERCLA”), 42 U.S.C. 9601 et seq., in connection with the Old Southington Landfill Superfund Site in Southington, Connecticut (“Site”), against 91 defendants.

One of the Consent Decrees requires five settling defendants (“Performing Parties”) to perform the Remedial Design/Remedial Action (“RD/RA”) set forth in the September 2006 Record of Decision for the Site. The remedy includes: (1) Implementation of institutional controls, in the form of environmental land use restrictions, on properties or portions of properties where groundwater volatile organic compound (“VOC”) concentrations exceed State of Connecticut Remediation Standard Regulations (“RSRs”); (2) installation of engineering controls, including building ventilation systems, sub-slab depressurization systems, or similar technology, in buildings located over properties or portions of properties where VOCs exceed the State RSR volatilization criteria; (3) conducting groundwater monitoring in areas where the potential for vapor intrusion is a concern; (4) performance of operation and maintenance and monitoring of engineering and institutional controls to ensure remedial measures are performing as intended and continue to protect human health and the environment in the long-term; and (5) conducting of five year reviews. The RD/RA Consent Decree also requires the five Performing Parties to: (a) Pay a lump sum of $500,000 to cover EPA's future oversight costs; (b) pay $537,000 to the U.S. Department of the Interior for federal natural resource damages; and (c) pay $2,750,000 to the State of Connecticut for damages to natural resources under the State's trusteeship. The RD/RA Consent Decree also resolves potential contribution claims by United Technologies Corp., one of the five Performing Parties, against the Department of the Army (except regarding disposals from its Quonset Point facility), the Department of the Navy, and the General Services Administration in exchange for a payment of $507,960.

The other Consent Decree provides for 86 de minimis potentially responsible parties to pay $4,248,450. Their payments will be deposited into a trust account that is being managed by the five Performing Parties. A portion of these funds will be used by the Performing Parties to help make the payments required under the RD/RA Consent Decree and the remaining funds will remain in the trust to provide financial assurance for the completion of the remedy under the RD/RA Consent Decree. The De Minimis Consent Decree also resolves the direct liability of the Navy regarding disposals from its Quonset Point facility at the Site in exchange for a payment of $9,057.

The two proposed Consent Decrees provide that the settlors are entitled to contribution protection as provided by Section 113(f)(2) of CERCLA, 42 U.S.C. 9613(f)(2), for matters addressed by the settlements.

The Department of Justice will receive for a period of 30 days from the date of this publication comments relating to the proposed Consent Decrees. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to: United States v. Town of Southington, et al, No. 3:09cv1515, D.J. No. 90-11-2-420/5. Commenters may request an opportunity for a public meeting in the affected area, in accordance with Section 7003(d) of RCRA, 42 U.S.C. 6973(d).

The proposed Consent Decrees may be examined at the Office of the United States Attorney, District of Connecticut, Connecticut Financial Center, 157 Church Street, New Haven, CT 06510. During the public comment period, the proposed Consent Decrees may also be examined on the following Department of Justice Web site, http://www.usdoj.gov/enrd/Consent_Decrees.html. Copies of the proposed Consent Decrees may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the any of the proposed Consent Decrees, please enclose a check in the amount of $40.25 for the RD/RA Consent Decree (25 cent per page reproduction cost), and $32.00 for the De Minimis Consent Decree, payable to the U.S. Treasury.

Maureen Katz,
Assistant Section Chief, Environmental Enforcement Section, Environment and Natural Resources Division.

[FR Doc. E9-24989 Filed 10-15-09; 8:45 am]

BILLING CODE 4410-15-P